COMMITTEE FOR PURCHASE FROM PEOPLE WHO ARE BLIND OR SEVERELY DISABLED

Procurement List Additions

AGENCY: Committee for Purchase From People Who Are Blind or Severely Disabled.

ACTION: Additions to the procurement list.

SUMMARY: This action adds to the Procurement List products and services to be furnished by nonprofit agencies employing persons who are blind or have other severe disabilities.

DATES: Effective Date: 4/26/2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION:

Additions

On 12/11/2009 (74 FR 65758-65760), 1/22/2010 (75 FR 3714), and 1/29/2010 (75 FR 4783-4784), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 8105-00-NIB-1300—Grain Bag.

NPA: Mississippi Industries for the Blind, Jackson, MS.

Contracting Activity: Department of Agriculture, Animal And Plant Health Inspection Service, Minneapolis, MN.

Coverage: C-List for 100% of the requirement of the Department of Agriculture, Animal and Plant Health Inspection Service, Minneapolis, MN.

M.R. Laundry Products

NSN: MR 1103—Heavy Duty Laundry Bag.

NSN: MR 1104—Pop Up Mesh Hamper.

NSN: MR 1105—Utility Pop Up Basket.

NPA: Industries for the Blind, Inc., West Allis, WI.

Contracting Activity: Military Resale-Defense Commissary Agency, Fort Lee, VA.

Coverage: C-List for the requirements for Military Resale, Defense Commissary Agency, Fort Lee, VA.

Services

Service Type/Locations: Manufacturing and Development of Prototypes for Equipment and Uniform Items.

Alphapointe Association for the Blind, 7501 Prospect, Kansas City, MO.

Northeastern Association of the Blind at Albany 301 Washington Avenue, Albany, NY.

Association for the Blind and Visually Impaired-Goodwill 422 South Clinton Avenue, Rochester, NY.

Blind Industries and Services of Maryland 3345 Washington Blvd, Baltimore, MD.

Industries of the Blind, Inc. 920 West Lee Street, Greensboro, NC.

Winston-Salem Industries for the Blind 7730 North Point Drive, Winston-Salem, NC.

LC Industries 4500 Emperor Blvd, Durham, NC.

Lions Services, Inc. 4600 North Tryon Street, Charlotte, NC.

San Antonio Lighthouse for the Blind 2305 Roosevelt Avenue, San Antonio, TX.

The Lighthouse for the Blind, Inc. (Seattle Lighthouse) 2501 South Plum Street, Seattle, WA.

Arkansas Lighthouse for the Blind 6918 Murray Street, Little Rock, AR.

NPAs:

National Industries for the Blind, Alexandria, VA (Prime Contractor).

Alphapointe Association for the Blind, Kansas City, MO (Subcontractor).

Northeastern Association of the Blind at Albany, Inc., Albany, NY (Subcontractor).

Association for the Blind and Visually Impaired & Goodwill Industries of Greater Rochester, Rochester, NY (Subcontractor).

Blind Industries & Services of Maryland, Baltimore, MD (Subcontractor).

Industries of the Blind, Inc., Greensboro, NC (Subcontractor).

Winston-Salem Industries for the Blind, Winston-Salem, NC (Subcontractor).

L.C. Industries for the Blind, Inc., Durham, NC (Subcontractor).

Lions Services, Inc., Charlotte, NC (Subcontractor).

San Antonio Lighthouse for the Blind, San Antonio, TX (Subcontractor).

The Lighthouse for the Blind, Inc. (Seattle Lighthouse), Seattle, WA (Subcontractor).

The Arkansas Lighthouse for the Blind, Little Rock, AR (Subcontractor).

Contracting Activity: Department of Homeland Security, US Coast Guard, CG-9, Washington, DC.

Service Type/Location: Shredding & Destruction of Document & Recycling.

U.S. Army Corps of Engineers: Middle East District, 201 Prince Frederick Dr., Winchester, VA.

Records Holding Area (RHA), 205 Brooke Rd., Winchester VA.

Transatlantic Division, 255 Fort Collier Rd., Winchester VA.

NPA: Athelas Institute, Inc., Columbia, MD.

Contracting Activity: Dept of the Army, XU W31R USAEN TRANSATL PGN CTR, Winchester, VA.

Service Type/Location: Mess Attendant and Contingency Cook Services, Malmstrom Air Force Base, MT.

NPA: Skils'kin, Spokane, WA.

Contracting Activity: Dept of the Air Force, FA 4626 341 CONS LGC, Malmstrom Air Force Base, MT.

Barry S. Lineback,
Director, Business Operations.

[FR Doc. 2010-6707 Filed 3-25-10; 8:45 am]

BILLING CODE 6353-01-P